DEPARTMENT OF COMMERCE

National Oceanic and Atmospheric Administration

RIN 0648-XD172

Atlantic Highly Migratory Species; Initiation of 5-Year Essential Fish Habitat Review

AGENCY: National Marine Fisheries Service (NMFS), National Oceanic and Atmospheric Administration (NOAA), Commerce.

ACTION: Notice of initiation of 5-year Essential Fish Habitat review; request for information.

SUMMARY: NMFS announces a 5-year review of essential fish habitat (EFH) for Atlantic highly migratory species (HMS) under the Magnuson-Stevens Fishery Conservation and Management Act. The purpose of the 5-year review is to evaluate the EFH provisions of the fishery management plan (FMP) and revise or amend them as warranted. A 5-year review is based on the best data available regarding Atlantic HMS and their habitats; therefore, NMFS is requesting submission of any such information on Atlantic HMS EFH that has become available since publication of Final Amendment 1 to the 2006 Consolidated HMS FMP in 2009; Final Environmental Impact Statement for Amendment 3 to the 2006 Consolidated HMS FMP; and the interpretive rule and final action that published on September 22, 2010, and defined EFH for roundscale spearfish.

DATES: To allow adequate time to conduct this review, NMFS must receive your information no later than May 23, 2014.

ADDRESSES: You may submit information by any of the following methods:

• Electronic Submission: Submit information via email to: NMFS.HMSEFH@noaa.gov.

• Mail: Submit written information to Jenni Wallace, HMS Management Division, NMFS, SSMC3/F/SF1, 1315 East-West Highway, Silver Spring, MD 20910. Please mark the outside of the envelope “Atlantic HMS EFH 5-Year Review.”

• Instructions: Information must be submitted by one of the above methods to ensure that the information is received, documented, and considered by NMFS. Information sent by any other method, or received after the end of the 60-day submission period, may not be considered. All information received is a part of the public record and may be posted for public viewing on http://www.nmfs.noaa.gov/sfa/hms/without change. All personal identifying information (e.g., name, address), confidential business information, or otherwise sensitive information submitted voluntarily by the sender will be publicly accessible. Do not submit confidential business information or otherwise sensitive or protected information. NMFS will accept anonymous submissions.

FOR FURTHER INFORMATION CONTACT: Jenni Wallace or Margo Schulze-Haugen at (301)427-8503.

SUPPLEMENTARY INFORMATION: In 1996, Congress reauthorized the Magnuson-Stevens Fishery Management and Conservation Act (Magnuson-Stevens Act). Section 305(b)(1)(A) of the reauthorized Magnuson-Stevens Act includes a requirement to identify and describe EFH for all federally-managed fish species based on guidelines established by the Secretary of Commerce (Secretary), to minimize, to the extent practicable, adverse effects on such habitat caused by fishing, and to identify other actions to encourage the conservation and enhancement of EFH. EFH is defined in section 3(10) of the Magnuson-Stevens Act as “those waters and substrate necessary to fish for spawning, breeding, feeding, or growth to maturity”.

The fishery management plan regulations (50 CFR 600.815) addressing EFH state that Councils and NMFS should periodically review and revise or amend the EFH provisions as warranted based on available information (§ 600.815(a)(10)). In 2009, NMFS completed a 5-year review and update of EFH for Atlantic HMS in Final Amendment 1 to the 2006 Consolidated HMS FMP (June 12, 2009; 74 FR 288018). In Amendment 1, NMFS updated and revised existing identifications and descriptions of EFH for Atlantic HMS, designated a Habitat Area of Particular Concern (HAPC) for bluefin tuna in the Gulf of Mexico and updated the analysis of fishing and non-fishing impacts to EFH. In 2010, NMFS published a Final Environmental Impact Statement for Amendment 3 to the 2006 Consolidated HMS FMP that designated EFH for smoothhound sharks using the same methodology in Final Amendment 1 to the 2006 Consolidated HMS FMP. In 2010, NMFS also published an interpretive rule and final action (September 22, 2010, 75 FR 57698) that added roundscale spearfish to the definition of terms in the Atlantic HMS regulations, and defined EFH for roundscale spearfish. This notice announces the first 5-year review of all designated Atlantic HMS EFH.

Public Solicitation of New Information

To ensure that the 5-year review is complete and based on the best data available regarding Atlantic HMS and their habitats, NMFS is soliciting information from the public, government agencies, tribes, the scientific community, industry, environmental entities, and any other parties, concerning EFH of Atlantic HMS. Categories of requested information are based on the 10 EFH components identified in FMP regulations. These include: (1) Description and identification of EFH; (2) Fishing activities that may adversely affect EFH; (3) Non-Magnuson-Stevens Act fishing activities that may adversely affect EFH; (4) Non-fishing related activities that may adversely affect EFH; (5) Cumulative impacts analysis; (6) Conservation and enhancement; (7)Prey species; (8) Identification of Habitat Areas of Particular Concern; (9) Research and information needs; and (10) Review and revision of EFH components of FMPs (§ 600.815(a)(1)-(10)). Any new information will be considered during the 5-year review and may also be used in evaluating ongoing research and management of Atlantic HMS.

Authority: 16 U.S.C. 1801 et seq.

Dated: March 19, 2014.
Emily H. Menashes,
Acting Director, Office of Sustainable Fisheries, National Marine Fisheries Service.

[FR Doc. 2014-06379 Filed 3-21-14; 8:45 am]

BILLING CODE 3510-22-P